DEPARTMENT OF ENERGY

Notice of Availability of Solicitation

AGENCY: Idaho Operations Office, Department of Energy.

ACTION: Notice of availability of solicitation—Steel Visions of the future.

SUMMARY: The U.S. Department of Energy (DOE), Idaho Operations Office, is seeking applications for cost-shared research and development of technologies which will reduce energy consumption, enhance economic competitiveness, and reduce environmental impacts of the Steel Industry. The research is to address research priorities identified by the Steel Industry in Chapters 2, 3, and 4 of the Steel Industry Technology Roadmap.

DATES: The deadline for receipt of applications is 3 p.m. MST on September 14, 2000.

ADDRESSES: Applications should be submitted to: Procurement Services Division, U.S. DOE, Idaho Operations Office, Attention: Carol Van Lente [DE-PS07-00ID13964], 850 Energy Drive, MS 1221, Idaho Falls, Idaho 83401-1563.

FOR FURTHER INFORMATION CONTACT: Carol Van Lente, Contract Specialist, at vanlencl@id.doe.gov.

SUPPLEMENTARY INFORMATION: The statutory authority for this program is the Federal Non-Nuclear Energy Research & Development Act of 1974 (P.L. 93-577). Approximately $5,000,000 to $10,000,000 in federal funds is expected to be available to fund the first year of selected research efforts. DOE anticipates making two to five cooperative agreement awards each with a duration of five years or less. Collaborations between industry, university, and National Laboratory participants are encouraged. The solicitation is available in full text via the Internet at the following address: http://www.id.doe.gov/doeid/psd/proc-div.html.

Issued in Idaho Falls on June 13, 2000.
R.J. Hoyles,
Director, Procurement Services Division.

[FR Doc. 00-15475 Filed 6-19-00; 8:45 am]

BILLING CODE 6450-01-P